DEPARTMENT OF THE INTERIOR

Bureau of Land Management

[CA-610-07-1990-AL]

Extension of Call for Nominations for the Bureau of Land Management's California Desert District Advisory Council

AGENCY: Bureau of Land Management, Department of the Interior.

ACTION: Extension of call for nominations for the Bureau of Land Management's California Desert District Advisory Council.

SUMMARY: The Bureau of Land Management's California Desert District announces an extension of call for nominations from the public for five members of its Desert District Advisory Council to serve the 2009-2011 three-year term.

The five positions to be filled include:

— One renewable resources representative

— One elected official

— One transportation/Rights-of-Way

— One renewable energy interests

— One public-at-large

DATES: Nominations will be accepted through Monday, December 1, 2008. The three-year term would begin January 1, 2009.

ADDRESSES: Nominations should be sent to the District Manager, Bureau of Land Management, California Desert District Office, 22835 Calle San Juan De Los Lagos, Moreno Valley, California 92553.

FOR FURTHER INFORMATION CONTACT: David Briery, BLM California Desert District External Affairs (951) 697-5220.

SUPPLEMENTARY INFORMATION: The BLM published notice in the Federal Register on September 28, 2008 calling for nominations to the California Desert District Advisory Council to serve the 2009-11 three-year term for the five positions listed above. The closing date for submissions was listed as October 30, 2008.

Nominations must include the name of the nominee; work and home addresses and telephone numbers; a biographical sketch that includes the nominee's work and public service record; any applicable outside interests or other information that demonstrates the nominee's qualifications for the position; and the specific category of interest in which the nominee is best qualified to offer advice and council. Nominees may contact the BLM California Desert District External Affairs staff at (951) 697-5217 or write to the address below and request a copy of the nomination form.

All nominations must be accompanied by letters of reference from represented interests, organizations, or elected officials supporting the nomination. Individuals nominating themselves must provide at least one letter of recommendation. Advisory Council members are appointed by the Secretary of the Interior, generally in late January or early February.

Dated: October 6, 2008.
Steven J. Borchard,
District Manager.

[FR Doc. E8-25018 Filed 10-20-08; 8:45 am]

BILLING CODE 4310-40-P